DEPARTMENT OF COMMERCE

Patent and Trademark Office

[Docket No.: PTO-P-2021-0032]

Patent Eligibility Jurisprudence Study

AGENCY: United States Patent and Trademark Office, Department of Commerce.

ACTION: Request for information; correction.

SUMMARY: The United States Patent and Trademark Office (USPTO) published a document in the Federal Register of July 9, 2021 requesting public comments on the current state of patent eligibility jurisprudence in the United States. This notice corrects the section of the document that identifies the individual who may be contacted for information regarding the request.

FOR FURTHER INFORMATION CONTACT: Courtney Stopp, USPTO, Office of Policy and International Affairs, at Courtney.Stopp@uspto.gov or 571-272-9300.

SUPPLEMENTARY INFORMATION:

Correction

In the Federal Register of July 9, 2021, in FR Doc. 2021-14628, on page 36258, in the first column, correct the information provided under the caption FOR FURTHER INFORMATION CONTACT to read:

FOR FURTHER INFORMATION CONTACT: Courtney Stopp, USPTO, Office of Policy and International Affairs, at Courtney.Stopp@uspto.gov or 571-272-9300. Please direct media inquiries to the USPTO's Office of the Chief Communications Officer at 571-272-8400.

Andrew Hirshfeld,
Commissioner for Patents, Performing the Functions and Duties of the Under Secretary of Commerce for Intellectual Property and Director of the United States Patent and Trademark Office.

[FR Doc. 2021-15010 Filed 7-14-21; 8:45 am]

BILLING CODE 3510-16-P